DEPARTMENT OF TRANSPORTATION

Federal Aviation Administration

[Docket No. FAA-2020-0434]

Agency Information Collection Activities: Requests for Comments; Clearance of a Renewed Approval of Information Collection: Passenger Facility Charge (PFC) Application

AGENCY: Federal Aviation Administration (FAA), DOT.

ACTION: Notice and request for comments.

SUMMARY: In accordance with the Paperwork Reduction Act of 1995, the FAA invites public comments about our intention to request the Office of Management and Budget (OMB) approval to renew an information collection. The collection involves the FAA's administration of the Passenger Facility Charge (PFC) program. The information to be collected will be used to authorize public agencies to impose PFCs and use PFC revenue on airport-related projects and to ensure compliance with PFC program requirements.

DATES: Written comments should be submitted by July 7, 2020.

ADDRESSES: Please send written comments:

By Electronic Docket: www.regulations.gov (Enter docket number into search field).

By mail: Rachel McCoy, Office of Airport Planning and Programming, Federal Aviation Administration, 800 Independence Ave. SW, Suite 620, Washington, DC 20591.

By fax: 202-267-5302.

FOR FURTHER INFORMATION CONTACT: For further information please contact Vanessa Balgobin by email at: vanessa.balgobin@faa.gov; phone: 202-267-3867.

SUPPLEMENTARY INFORMATION: Public Comments Invited: You are asked to comment on any aspect of this information collection, including (a) whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0557.

Title: Passenger Facility Charge (PFC) Application.

Form Numbers: FAA Form 5500-1.

Type of Review: Renewal of an information collection.

Background: The DOT/FAA will use any information submitted in response to this collection to carry out the intent of 49 U.S.C. 40117. This statute authorizes public agencies controlling airports to impose PFCs and use PFC revenues. The information collected enables the FAA to approve the collection of PFC revenue for projects which preserve or enhance safety, security, or capacity of the national air transportation system, or which reduce noise or mitigate noise impacts resulting from an airport, or which furnish opportunities for enhanced competition between or among air carriers, and to provide oversight of the PFC program, as required by statute.

Respondents: Approximately 475 respondents annually.

Frequency: On occasion.

Estimated Average Burden per Response: 8 hours.

Estimated Total Annual Burden: 22,054 hours.

Issued in Washington, DC, on May 4, 2020.
David F. Cushing,
Manager, Airports Financial Assistance Division, APP-500.

[FR Doc. 2020-09833 Filed 5-7-20; 8:45 am]

BILLING CODE 4910-13-P